DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA).

Title: Expenditures Incurred by Recipients of Biomedical Research Awards from the National Institutes of Health (NIH).

OMB Control Number: 0608-0069.

Form Number: None.

Type of Request: Regular submission.

Number of Respondents: 150.

Average Hours per Response: 8 hours.

Estimated Total Annual Burden Hours: 1,200.

Needs and Uses: The survey to obtain the distribution of expenditures incurred by recipients of biomedical research awards from the National Institutes of Health Research (NIH) will provide information on how the NIH award amounts are expended across several major categories. This information, along with wage and price data from other published sources, will be used to generate the Biomedical Research and Developmental Price Index (BRDPI). The Bureau of Economic Analysis (BEA) of the Department of Commerce develops this index for the National Institutes of Health (NIH) under reimbursable contract. The BRDPI is an index of prices paid for the labor, supplies, equipment, and other inputs required to perform the biomedical research the NIH supports in its intramural laboratories and through its awards to extramural organizations. The BRDPI is a vital tool for planning the NIH research budget and analyzing future NIH programs. A survey of award recipient entities is currently the only means for updating the expenditure categories that are used to prepare the BRDPI.

A survey questionnaire with a cover letter that includes a brief description of, and rationale for, the survey will be sent to potential respondents by the first week of June of each year. A report of the respondent's expenditures of the NIH award amounts, following the proposed format for expenditure categories attached to the survey's cover letter, will be requested to be returned no later than 60 days after mailing. Survey respondents will be selected on the basis of award levels, which determine the weight of the respondent in the biomedical research and development price index. BEA proposes to survey 150 organizations that receive NIH biomedical research awards. This will include the top 100 academic organizations in awards received and the top 50 nonacademic organizations in awards received. Based on awards data for FY 2007 by type of organization (the most recent data available from NIH at this writing), academic organizations received $16.1 billion in awards, compared with $6.5 billion received by nonacademic organizations. The top 100 academic recipients received $14.0 billion, representing 86.9 percent of all awards going to academic organizations. The top 50 nonacademic organizations received $3.6 billion, representing 56.3 percent of all awards going to nonacademic institutions. The combined sample of 150 organizations will thus account for $17.7 billion in total NIH awards, representing 78.1 percent of all awards given in FY 2007.

Affected Public: Businesses or other for-profit institutions, and not-for-profit institutions.

Frequency: Annual.

Respondent's Obligation: Voluntary.

Legal Authority: 45 CFR subpart C, Post-Award Requirements, sections 74.21 and 74.53; 42 U.S.C. 282; Economy Act (31 U.S.C. 1535 and 1536); 15 U.S.C. 1525; and 15 U.S.C. 1527a.

OMB Desk Officer: Paul Bugg, (202) 395-3093.

Copies of the above information collection proposal can be obtained by calling or writing Diana Hynek, Departmental Paperwork Clearance Officer, (202) 482-0266, Department of Commerce, Room 6616, 14th Street and Constitution Avenue, NW., Washington DC 20230, or via e-mail at dhynek@doc.gov.

Written comments and recommendations for the proposed information collection should be sent within 30 days of publication of this notice to Paul Bugg, OMB Desk Officer, Fax number (202) 395-7245, or via e-mail at pbugg@omb.eop.gov.

Dated: June 22, 2011.
Glenna Mickelson,
Management Analyst, Office of the Chief Information Officer.

[FR Doc. 2011-16021 Filed 6-24-11; 8:45 am]

BILLING CODE 3510-06-P